DEPARTMENT OF COMMERCE

Bureau of Industry and Security

15 CFR Part 774

The Commerce Control List

ACTION: CFR Correction

In Title 15 of the Code of Federal Regulations, Parts 300 to 799, revised as of January 1, 2015, on page 829, in supplement no. 1 to part 774, make the following two corrections:

1. In Category 2, ECCN 2B008, in the List of Items Controlled section, under “Items”, correctly revise paragraph a. to read as follows:

2B008 Assemblies or Units, Specially Designed for Machine Tools, or Dimensional Inspection or Measuring Systems and Equipment, as Follows (see List of Items Controlled)

* * * * *

List of Items Controlled

* * * * *

Items:

a. Linear position feedback units having an overall “accuracy” less (better) than (800 + (600 × L × 10⁻³)) nm (L equals the effective length in mm);

N.B.: For “laser” systems see also 2B006.b.1.c and d.

2. In Category 2, ECCN 2B009, in the List of Items Controlled section, under “Items”, correctly revise paragraph a. to read “a. Three or more axes which can be coordinated simultaneously for “contouring control”; and”

[FR Doc. 2015-31130 Filed 12-9-15; 8:45 am]

BILLING CODE 1505-01-D